DEPARTMENT OF COMMERCE

Foreign-Trade Zones Board

[Docket B-24-2013]

Foreign-Trade Zone (FTZ) 169—Manatee County, Florida, Application for Expanded Production Authority, ASO, LLC (Subzone 169A), Opening of Comment Period on New Evidence

An application has been submitted to the Foreign-Trade Zones Board (the Board) by ASO, LLC (ASO), operator of Subzone 169A, for its facility located in Sarasota, Florida. The facility is used for the production of plastic and textile fabric adhesive bandages. ASO's request would add certain foreign-status textile products to ASO's existing scope of authority.

On March 14, 2014, ASO made a submission to the FTZ Board that included new evidence in response to the examiner's preliminary recommendation not to approve the requested expansion of FTZ production authority. Public comment is invited on ASO's new submission through April 28, 2014. Rebuttal comments may be submitted during the subsequent 15-day period, until May 12, 2014. Submissions shall be addressed to the FTZ Board's Executive Secretary at: Foreign-Trade Zones Board, U.S. Department of Commerce, Room 21013, 1401 Constitution Ave. NW., Washington, DC 20230.

A copy of ASO's March 14, 2014, submission will be available for public inspection at the address above, and in the “Reading Room” section of the Board's Web site, which is accessible via www.trade.gov/ftz.

FOR FURTHER INFORMATION CONTACT: Diane Finver at Diane.Finver@trade.gov or (202) 482-1367.

Dated: March 21, 2014.
Andrew McGilvray,
Executive Secretary.

[FR Doc. 2014-06856 Filed 3-26-14; 8:45 am]

BILLING CODE 3510-DS-P